DEPARTMENT OF HEALTH AND HUMAN SERVICES

Health Resources and Services Administration

National Advisory Committee on Rural Health and Human Services; Notice of Meeting

In accordance with section 10(a)(2) of the Federal Advisory Committee Act (Public Law 92-463), notice is hereby given that the following committee will convene its forty-seventh meeting.

Name: National Advisory Committee on Rural Health and Human Services.

Dates and Times: September 12, 2004, 1:30 p.m.-4:30 p.m.; September 13, 2004, 9 a.m.-4:30 p.m.; September 14, 2004, 8 a.m.-10:30 a.m.

Place: Executive Inn, 1011 N. Gloster St., Tupelo, MS 38804. Phone: 662-841-2222.

Status: The meeting will be open to the public.

Purpose: The National Advisory Committee on Rural Health and Human Services provides advice and recommendations to the Secretary with respect to the delivery, research, development and administration of health and human services in rural areas.

Agenda: Sunday afternoon, September 12, 2004, at 1:30 p.m., the Chairperson, the Honorable David Beasley, will open the meeting and welcome the Committee. The first session will open with a discussion of the Committee business and updates by Federal staff. This will be followed by an overview of Tupelo, MS. The Committee will then break into Subcommittee format to discuss the 2005 Report and reconvene at 4 p.m. The Sunday session will close at 4:30 p.m.

Monday morning, September 13, 2004, at 9 a.m. the Committee will break into Subcommittees and conduct site visits to local health and human services facilities. Transportation to these facilities will not be provided to the public. The Collaboration Subcommittee will visit the CREATE Foundation, the Commission on the Future of Northeast Mississippi in Tupelo, MS; the Temporary Assistance for Needy Families Subcommittee will visit Project Lift in Monroe County, MS; the Obesity Subcommittee will visit West Point in Clay County, MS; and the Obstetrics Subcommittee will visit Gilmore, MS. The Committee will reconvene at 2:00 in Tupelo, MS for a presentation by Dr. Edwin Hill, President Elect of the American Medical Association. The Committee will have an overview of the site visits and break into Subcommittees to work on the 2005 report. The Monday meeting will adjourn at 4:30 p.m.

The final session will be convened Tuesday morning, September 14, 2004, at 8:30 a.m. The Committee will summarize the Subcommittees discussions and discuss the timeline for the completion of the report. The meeting will conclude with a discussion of the letter to the Secretary. The meeting will be adjourned at 10:30 a.m.

FOR FURTHER INFORMATION CONTACT: Anyone requiring information regarding the Committee should contact Tom Morris, M.P.A., Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, Office of Rural Health Policy (ORHP), telephone (301) 443-0835. The Committee meeting agenda will be posted on ORHP's Web site http://www.ruralhealth.hrsa.gov.

Dated: August 16, 2004.
Tina M. Cheatham,
Director, Division of Policy Review and Coordination.

[FR Doc. 04-19241 Filed 8-20-04; 8:45 am]

BILLING CODE 4165-15-P